INTERNATIONAL TRADE COMMISSION

[Investigation Nos. 701-TA-350 and 731-TA-616 and 618 (Third Review)]

Corrosion-Resistant Carbon Steel Flat Products From Germany and Korea; Revised Schedule for the Subject Reviews

AGENCY: United States International Trade Commission.

ACTION: Notice.

DATES: Effective Date: November 2, 2012.

FOR FURTHER INFORMATION CONTACT: Mary Messer (202-205-3193), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: Effective May 21, 2012, the Commission established a schedule for the conduct of these five-year reviews (77 FR 31877, May 30, 2012). As noted in the Commission's original scheduling notice, “The Commission has determined to exercise its authority to extend the review period by up to 90 days pursuant to 19 U.S.C. 1675(c)(5)(B).” The hearing in connection with these reviews, originally scheduled for November 1, 2012, was subsequently cancelled by the Chairman due to the severity and duration of Hurricane Sandy. The Commission, therefore, is rescheduling the hearing and revising the remainder of its schedule in the five-year reviews. Prehearing briefs have already been filed in these reviews and there is no need to refile or to supplement those briefs.

The Commission's hearing on the subject reviews will be held at the U.S. International Trade Commission Building at 9:30 a.m. on January 9, 2013. Any revisions to previously submitted hearing appearance requests, which were originally due on or before October 25, 2012, should be filed in writing with the Secretary to the Commission on or before January 2, 2013. Witness hearing testimony must be filed no later than January 4, 2013. The deadline for filing posthearing briefs is January 18, 2013. In addition, any person who has not entered an appearance as a party to the reviews may submit a written statement of information pertinent to the subject of the reviews on or before January 18, 2013. On February 6, 2013, the Commission will make available to parties all information on which they have not had an opportunity to comment. Parties may submit final comments on this information on or before February 8, 2013, but such final comments must not contain new factual information and must otherwise comply with section 207.68 of the Commission's rules.

Authority: These reviews are being conducted under authority of title VII of the Tariff Act of 1930; this notice is published pursuant to section 207.62 of the Commission's rules.

Issued: November 5, 2012.
By order of the Commission.
Lisa R. Barton,
Acting Secretary to the Commission.

[FR Doc. 2012-27371 Filed 11-8-12; 8:45 am]

BILLING CODE 7020-02-P